DEPARTMENT OF LABOR

Employment and Training Administration

[TA-W-81,114]

Plumchoice, Inc., Including On-Site Leased Workers From Balance Staffing, Insight Global Staffing, and Technisource, Scarborough, ME; Amended Certification Regarding Eligibility To Apply for Worker Adjustment Assistance

In accordance with Section 223 of the Trade Act of 1974, as amended (“Act”), 19 U.S.C. 2273, the Department of Labor issued a Certification of Eligibility to Apply for Worker Adjustment Assistance on February 3, 2012, applicable to workers of PlumChoice, Inc., including on-site leased workers from Balance Staffing, Insight Global Staffing, and Technisource, Scarborough, Maine. The workers are engaged in activities related to sales and technical support services. The notice was published in the Federal Register on February 21, 2012 (76 FR 9971).

At the request of the Maine State agency, the Department reviewed the certification for workers of the subject firm. New information from the company shows that workers leased from Technisource were employed on-site at the Scarborough, Maine location of PlumChoice, Inc. The Department has determined that these workers were sufficiently under the control of PlumChoice, Inc. to be considered leased workers.

The intent of the Department's certification is to include all workers of the subject firm who were adversely affected by increased customer imports of sales and technical support services.

Based on these findings, the Department is amending this certification to include workers leased from Technisource working on-site at the Scarborough, Maine location of the subject firm.

The amended notice applicable to TA-W-81,114 is hereby issued as follows:

“All workers from PlumChoice, Inc., including on-site leased workers from Balance Staffing, Insight Global Staffing, and Technisource, Scarborough, Maine, who became totally or partially separated from employment on or after February 13, 2010, through February 3, 2014, and all workers in the group threatened with total or partial separation from employment on date of certification through two years from the date of certification, are eligible to apply for adjustment assistance under Chapter 2 of Title II of the Trade Act of 1074, as amended.”

Signed at Washington, DC this 28th day of February 2012.
Del Min Amy Chen,
Certifying Officer, Office of Trade Adjustment Assistance.

[FR Doc. 2012-5923 Filed 3-12-12; 8:45 am]

BILLING CODE 4510-FN-P